INTERNATIONAL TRADE COMMISSION

[Investigation No. 337-TA-865]

Certain Balloon Dissection Devices and Products Containing Same; Commission Determination Not To Review an Initial Determination Granting a Joint Motion To Correct the Named Respondents and Terminate the Investigation Based on a Consent Order Stipulation; Issuance of Consent Order

AGENCY: U.S. International Trade Commission.

ACTION: Notice.

SUMMARY: Notice is hereby given that the U.S. International Trade Commission has determined not to review an ID (Order No. 3) of the administrative law judge (“ALJ”) granting a joint motion to correct the named respondents and terminate the above-captioned investigation based on a consent order stipulation. The Commission has issued the subject consent order.

FOR FURTHER INFORMATION CONTACT: James A. Worth, Office of the General Counsel, U.S. International Trade Commission, 500 E Street SW., Washington, DC 20436, telephone (202) 205-3065. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on January 31, 2013 based on a complaint filed on behalf of Covidien LP of Mansfield, Massachusetts (“Covidien”) on December 21, 2012. 78 FR 6838 (January 31, 2013). The complaint alleged violations of section 337 of the Tariff Act of 1930, as amended, 19 U.S.C. 1337, in the sale for importation, the importation, or sale in the United States after importation of certain balloon dissection devices and products containing same by reason of infringement of certain claims of U.S. Patent No. 6,312,442 (“the `442 patent”). The notice of investigation named as respondents Pajunk Medizintechnik GmbH of Geisingen, Germany; Pajunk Medizintechnologie GmbH of Geisingen, Germany; and Pajunk Medical Systems LP of Norcross, Georgia.

On February 8, 2013, complainant Covidien and respondents Pajunk GmbH Medizintechnologie and Pajunk Medical Systems LP filed a motion to (1) correct the named respondents; (2) stay the procedural schedule; and (3) terminate the investigation on the basis of a consent order stipulation and consent order. The motion seeks to correct the named respondents by terminating “Pajunk Medizintechnik GmbH” because it does not exist as a legal entity and correcting named respondent “Pajunk Medizintechnologie GmbH” to its proper name, “Pajunk GmbH Medizintechnogie.” On February 11, 2013, the Commission investigative attorney filed a response in support of the motion.

On February 12, 2013, the ALJ issued Order No. 3, granting the motion. The parts of the order correcting the named respondents and terminating the investigation on the basis of a consent order stipulation constitute an ID. The ALJ stated that there is no indication that termination based on the consent order stipulation would have an adverse impact on the public interest. No petitions for review were filed.

Having considered the ID and the relevant portions of the record, the Commission has determined not to review the ID and to issue the subject consent order.

This action is taken under the authority of section 337 of the Tariff Act of 1930, as amended (19 U.S.C. 1337), and of section 210.42(h) of the Commission's Rules of Practice and Procedure (19 CFR 210.42(h)).

By order of the Commission.
Issued: March 15, 2013.
Lisa R. Barton,
Acting Secretary to the Commission.

[FR Doc. 2013-06445 Filed 3-20-13; 8:45 am]

BILLING CODE 7020-02-P